DEPARTMENT OF ENERGY

Federal Energy Regulatory Commission

Combined Notice of Filings #1

Take notice that the Commission received the following electric corporate filings:

Docket Numbers: EC14-12-000

Applicants: Yellow Jacket Energy, LLC

Description: Application of Yellow Jacket Energy, LLC for Authorization Under Section 203 of the Federal Power Act and Request for Confidential Treatment.

Filed Date: 10/23/13

Accession Number: 20131023-5116

Comments Due: 5 p.m. ET 11/13/13

Take notice that the Commission received the following electric rate filings:

Docket Numbers: ER10-1818-004; ER10-1819-005; ER10-1820-007; ER10-ER10-1817-005

Applicants: Public Service Company of Colorado

Description: Public Service Company of Colorado submits additional information related to the Updated Market Power Analysis.

Filed Date: 10/18/13

Accession Number: 20131023-0035

Comments Due: 5 p.m. ET 11/8/13

Docket Numbers: ER10-2308-001

Applicants: Camden County Energy Recovery Associates, Covanta Delano, Inc., Covanta Delaware Valley, L.P., Covanta Energy Marketing LLC, Covanta Essex Company, Covanta Hempstead Company, Covanta Maine, LLC, Covanta Niagara, L.P., Covanta Plymouth Renewable Energy Limited, Covanta Power LLC, Covanta Union, Inc.

Description: Supplement to September 18, 2013 Covanta MBR Entities Notice of Change in Status of Covanta Delano, Inc.

Filed Date: 10/22/13

Accession Number: 20131022-5127

Comments Due: 5 p.m. ET 11/12/13

Docket Numbers: ER14-21-001

Applicants: Mountain View Solar, LLC

Description: Mountain View Solar, LLC Amendment to Application for Market-Based Rates to be effective 11/1/2013.

Filed Date: 10/23/13

Accession Number: 20131023-5106

Comments Due: 5 p.m. ET 11/13/13

Docket Numbers: ER14-167-000

Applicants: Southwest Power Pool, Inc.

Description: 2142R1 Golden Spread Electric Cooperative, Inc. NITSA to be effective 1/1/2011.

Filed Date: 10/23/13

Accession Number: 20131023-5080

Comments Due: 5 p.m. ET 11/13/13

Docket Numbers: ER14-168-000

Applicants: Duke Energy Florida, Inc.

Description: New Smyrna Beach PPA—RS 218 to be effective 1/1/2014.

Filed Date: 10/23/13

Accession Number: 20131023-5091

Comments Due: 5 p.m. ET 11/13/13

Docket Numbers: ER14-169-000

Applicants: Southwest Power Pool, Inc.

Description: 1374R14 Kansas Power Pool and Westar Meter Agent Agreement to be effective 10/1/2013.

Filed Date: 10/23/13

Accession Number: 20131023-5105

Comments Due: 5 p.m. ET 11/13/13

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2013.
Nathaniel J. Davis, Sr.,
Deputy Secretary.

[FR Doc. 2013-26092 Filed 10-31-13; 8:45 am]

BILLING CODE 6717-01-P